DEPARTMENT OF HOMELAND SECURITY

Coast Guard

33 CFR Part 165

[Docket No. USCG-USCG-0063]

Safety Zones; Annual Firework Displays Within the Captain of the Port, Puget Sound Area of Responsibility

AGENCY: Coast Guard, DHS.

ACTION: Notice of enforcement of regulation.

SUMMARY: The Coast Guard will enforce the safety zone for the Alderbrook Spa & Resort annual firework display in the Captain of the Port, Puget Sound area of responsibility during the dates and times noted below. This action is necessary to prevent injury and to protect life and property of the maritime public from the hazards associated with the firework displays. During the enforcement period, entry into, transit through, mooring, or anchoring within this zone is prohibited unless authorized by the Captain of the Port, Puget Sound or Designated Representative.

DATES: The regulations in 33 CFR 165.1332 for the Alderbrook Spa & Resort Fireworks display will be enforced in Hood Canal, WA from 5 p.m. on November 25, 2011, through 1 a.m. on November 26, 2011.

FOR FURTHER INFORMATION CONTACT: If you have questions on this notice, call or e-mail ENS Anthony P. LaBoy, Sector Puget Sound Waterways Management, Coast Guard; telephone 206-217-6323, SectorPugetSoundWWM@uscg.mil.

SUPPLEMENTARY INFORMATION: The Coast Guard will enforce the safety zone “Annual Fireworks Displays within the Captain of the Port, Puget Sound Area of Responsibility” in 33 CFR 165.1332 during the dates and times noted below.

The following safety zone will be enforced from 5 p.m. on November 25, 2011 through 1 a.m. on November 26, 2011:

Event name | Location | Latitude | Longitude | Radius
Alderbrook Resort & Spa | Hood Canal | 47°21.033′ N | 123°04.1′ W | 150 yds.

All vessel operators who desire to enter the safety zone must obtain permission from the Captain of the Port or Designated Representative by contacting the Coast Guard Sector Puget Sound Joint Harbor Operations Center (JHOC) via telephone at (206) 217-6002.

The Coast Guard may be assisted by other Federal, State, or local law enforcement agencies in enforcing this regulation.

This notice is issued under authority of 33 CFR 165.1332 and 5 U.S.C. 552(a). In addition to this notice, the Coast Guard will provide the maritime community with extensive advanced notification of the safety zones via the Local Notice to Mariners and marine information broadcasts on the day of the events.

Dated: September 15, 2011.
S.J. Ferguson,
Captain, U.S. Coast Guard, Captain of the Port, Puget Sound.

[FR Doc. 2011-26601 Filed 10-13-11; 8:45 am]

BILLING CODE 9110-04-P